INTERNATIONAL TRADE COMMISSION

[Investigation Nos. 701-TA-474 and 731-TA-1176 (Preliminary)]

Drill Pipe From China

AGENCY: United States International Trade Commission.

ACTION: Revised schedule for the subject antidumping and countervailing duty investigations.

DATES: Effective Date: February 16, 2010.

FOR FURTHER INFORMATION CONTACT: Angela M.W. Newell (202-708-5409), Office of Investigations, U.S. International Trade Commission, 500 E Street, SW., Washington, DC 20436. Hearing-impaired persons can obtain information on this matter by contacting the Commission's TDD terminal at 202-205-1810. Persons with mobility impairments who will need special assistance in gaining access to the Commission should contact the Office of the Secretary at 202-205-2000. General information concerning the Commission may also be obtained by accessing its Internet server (http://www.usitc.gov). The public record for these reviews may be viewed on the Commission's electronic docket (EDIS) at http://edis.usitc.gov

SUPPLEMENTARY INFORMATION: Effective December 31, 2009, the Commission established a schedule for the conduct of these investigations (75 FR 877, January 6, 2010). Due to the closure of the Federal Government for four days as a result of inclement weather and related disruptions, the Commission is issuing a revised schedule.

The Commission's new schedule for the investigations is as follows: the Commission must reach its preliminary determination in these antidumping and countervailing duty investigations by February 22, 2010, and the Commission's views are due to the U.S. Department of Commerce five business days thereafter, or by March 1, 2010.

For further information concerning the investigations see the Commission's notice cited above and the Commission's Rules of Practice and Procedure, part 201, subparts A through E (19 CFR part 201), and part 207, subparts A and C (19 CFR part 207).

Authority: The investigations are being conducted under authority of title VII of the Tariff Act of 1930; this notice is published pursuant to section 207.21 of the Commission's rules.

Issued: February 16, 2010.
By order of the Commission.
Marilyn R. Abbott,
Secretary to the Commission.

[FR Doc. 2010-3424 Filed 2-22-10; 8:45 am]

BILLING CODE P